DEPARTMENT OF HEALTH AND HUMAN SERVICES

Centers for Disease Control and Prevention

Reorganization of the National Center for Emerging and Zoonotic Infectious Diseases

AGENCY: Centers for Disease Control and Prevention (CDC), the Department of Health and Human Services (HHS).

ACTION: Notice.

SUMMARY: CDC has modified its structure. This notice announces the reorganization of the National Center for Emerging and Zoonotic Infectious Diseases (NCEZID). NCEZID reorganized to improve collaboration between science and public health programs within NCEZID as well as with our partners across and outside the agency, which will increase our public health impact.

DATES: This reorganization was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the National Center for Emerging and Zoonotic Infectious Diseases, Centers for Disease Control and Prevention. Specifically, the changes are as follows:

I. Under Part C, Section C-B, Organization and Functions, insert the following:

• National Center for Emerging and Zoonotic Infectious Diseases (CR)

• Office of the Director (CR1)

• Division of Foodborne, Waterborne, and Environmental Diseases (CRB)

• Office of the Director (CRB1)

• Enteric Diseases Epidemiology Branch (CRBB)

• Enteric Diseases Laboratory Branch (CRBC)

• Outbreak Response and Prevention Branch (CRBD)

• Waterborne Disease Prevention Branch (CRBE)

• Mycotic Diseases Branch (CRBG)

• Division of Global Migration Health (CRC)

• Office of the Director (CRC1)

• Travel Risk Assessment and Mitigation Branch (CRCB)

• Immigrant and Refugee Health Branch (CRCC)

• Travelers' Health Branch (CRCD)

• Port Health Protection Branch (CRCE)

• Southern Border Health and Migration Branch (CRCG)

• Division of Healthcare Quality Promotion (CRD)

• Office of the Director (CRD1)

• Antimicrobial Resistance Coordination and Strategy Unit (CRD12)

• Immunization Safety Office (CRDB)

• Clinical and Environmental Microbiology Branch (CRDC)

• Prevention and Response Branch (CRDD)

• Surveillance Branch (CRDE)

• Epidemiology Research and Innovations Branch (CRDG)

• Healthcare Systems Strengthening, Resilience, and Training Branch (CRDH)

• International Infection Control Branch (CRDJ)

• Medical Product Safety Branch (CRDK)

• Division of High-Consequence Pathogens and Pathology (CRE)

• Office of the Director (CRE1)

• Prion and Public Health Office (CRE12)

• Viral Special Pathogens Branch (CREB)

• Poxvirus and Rabies Branch (CREC)

• Infectious Diseases Pathology Branch (CRED)

• Chronic Viral Diseases Branch (CREE)

• Bacterial Special Pathogens Branch (CREG)

• Division of Infectious Disease Readiness and Innovation (CRG)

• Office of the Director (CRG1)

• Arctic Investigations Program (CRGB)

• Epidemiology Laboratory Capacity and Informatics Branch (CRGC)

• Rapid Response Research and Surveillance Branch (CRGD)

• Office of Advanced Molecular Detection (CRGE)

• Division of Core Laboratory Services and Response (CRH)

• Office of the Director (CRH1)

• Advanced Diagnostics and Biotechnologies Branch (CRHB)

• Comparative Medicine Branch (CRHB)

• Preparedness, Response, and Outbreak Services Branch (CRHD)

• Laboratory Products and Services Branch (CRHE)

• Division of Vector-Borne Diseases (CRJ)

• Office of the Director (CRJ1)

• Arboviral Diseases Branch (CRJB)

• Bacterial Diseases Branch (CRJC)

• Dengue Branch (CRJD)

• Rickettsial Zoonoses Branch (CRJE)

• Division of Parasitic Diseases and Malaria (CRK)

• Office of the Director (CRK1)

• Malaria Branch (CRKB)

• Parasitic Diseases Branch (CRKC)

• Entomology Branch (CRKD)

• Laboratory Science and Diagnostics Branch (CRKE)

II. Under Part C, Section C-B, Organization and Functions, retitle the following organizational units:

• Division of Global Migration and Quarantine to Division of Global Migration Health (CRC)

• Division of Scientific Resources to Division of Core Laboratory Services and Response (CRH)

III. Under Part C, Section C-B, Organization and Functions, delete the mission or functional statements for and replace with the following:

National Center for Emerging and Zoonotic Infectious Diseases (CR). The National Center for Emerging and Zoonotic Infectious Diseases (NCEZID) saves lives through the prevention, early detection, and control of infectious disease threats. In carrying out these activities, NCEZID: (1) works collaboratively across CDC and with external partners to conduct, coordinate, support, and evaluate public health efforts to prevent and minimize morbidity and mortality due to infectious diseases, promoting a One Health approach involving the interface of animal, human, and environmental factors; (2) leads agency-wide efforts in planning for and responding to infectious disease outbreaks in the United States and around the world; (3) develops, evaluates, and advances science, programs, management, and operations toward meeting the agency's infectious disease-related mission and goals and improving the agency's response readiness; (4) conducts epidemiologic and laboratory science and applied research aimed at identifying risk factors and disease burdens and developing and implementing public health programs, practices, and policies for infectious disease prevention and control including increasing health equity; (5) works with domestic and global partners to provide technical and subject matter expertise in responding to outbreaks and in establishing, maintaining, and evaluating disease control and prevention programs; (6) supports a broad range of cross-cutting and collaborative programs aimed at enhancing response readiness and public health capacity at the local, state, and national levels; (7) works to improve the quality and safety of healthcare through efforts to reduce healthcare associated infections and antimicrobial resistance and to ensure the safety of medical products, including vaccines; (8) conducts activities to improve the safety of food and water and reduce related enteric illnesses; conducts activities to address diagnosis, prevention, and control of vector-borne diseases, including malaria, in the United States and globally; (9) administers a national public health program to prevent U.S. importation and spread of infectious diseases; (10) works with CDC colleagues and external partners to improve public health preparedness at the local, state, and national levels; and (11) works to increase public health prevention efforts for populations at increased risk for infectious diseases.

Office of the Director (CR1). (1) provides leadership in developing, prioritizing, advancing, and evaluating the Center's science, programs, management, and operations toward meeting agency mission and goals; (2) advises the CDC Director and Immediate Office of the Director (IOD) on priority issues affecting the Center; (3) identifies and facilitates synergies within NCEZID, across CDC, and with external partners for enhancing infectious disease response readiness and addressing emerging and zoonotic infectious diseases domestically and globally; (4) enhances collaborations and partnerships across multiple disciplines, including human and animal health; and works to systematically reduce disparities related to emerging and zoonotic infectious diseases; (5) serves as the focal point and programmatic home for activities on One Health, an integrated approach to optimizing human and animal health that considers the interrelatedness among humans, animals, and their environments; (6) builds and manages a portfolio of One Health activities, plans, and accomplishments; (7) leads Center-wide enhancement of data systems to support predictive data science and rapid sharing of information, supported by modern information technology platforms and enterprise services that facilitate CDC's public health mission; (8) provides assay validation and surge testing support for outbreak response; (9) provides foundation for design control for assay development and supports compliance with agency quality plan; (10) maintains close programmatic oversight of the Division of Healthcare Quality Promotion's Antimicrobial Resistance Coordination and Strategy Unit and the Division of Infectious Disease Readiness and Innovation's Office of Advance Molecular Detection, assuring a direct line for communication with the directors of those programs; (11) provides leadership, guidance, and technical assistance on policy and communication issues affecting the center; (12) serves as liaison with CDC counterparts, CDC/IOD, other government agencies, and external partners on policy, program, legislative, communication, and budgetary issues related to NCEZID; (13) serves as the Designated Federal Official (DFO), provides leadership for, and manages the infectious diseases Board of Scientific Counselors, a chartered Federal advisory committee that advises on strategies, goals and priorities for CDC's infectious disease programs and research; (14) recruits and supports a strong, diverse Center-wide workforce and builds leadership at the division and branch levels to promote the integration of diversity into all aspects of the workforce; (15) ensures program accountability, supporting achievement of programmatic goals with measurable impact; (16) supports effective administrative services for NCEZID as well as effective cross-cutting scientific and program services for all CDC's infectious disease national Centers; and (17) provides staffing and support for emergency responses at program, division, Center, and agency levels.

Division of Foodborne, Waterborne, and Environmental Diseases (CRB). The mission of the Division of Foodborne, Waterborne, and Environmental Diseases (DFWED) is to improve public health nationally and internationally through the prevention and control of disease, disability, and death caused by foodborne, waterborne, other enteric, and fungal infections. In carrying out its mission, DFWED: (1) develops and leads national surveillance platforms and conducts surveillance, investigations, and studies of foodborne bacterial diseases, waterborne diseases, and mycotic diseases to determine the sources and develop effective methods for diagnosis, prevention, and control; (2) conducts or participates in clinical, field, and laboratory research to develop, evaluate, and improve laboratory methodologies, materials, diagnostics, and therapeutic practices used for environmental detection, diagnosis, treatment, investigation, and control of foodborne and zoonotic bacterial diseases, water, sanitation, and hygiene-related diseases, and mycotic diseases, including those affected by changes in the environment or climate; (3) conducts environmental microbiology research activities at CDC through partnerships and external activities to promote research on prevention and control of infectious disease transmission from the environment to humans; (4) provides epidemiologic consultation, upon request, to state and local health departments, other Federal agencies, national and international health organizations, and ministries of health; (5) provides reference/diagnostic services for foodborne and zoonotic bacterial diseases, waterborne bacterial and parasitic diseases, and mycotic diseases to state and local health departments, other Federal agencies, and national and international health organizations; (6) investigates outbreaks, conducts surveillance, and engages in research studies concerning the emergence and spread of antimicrobial resistant enteric and mycotic pathogens across the One Health spectrum; (7) provides scientific and technical assistance to other CDC components when the work requires unique expertise or specialized equipment not available in other components; (8) provides intramural and extramural technical expertise and assistance in professional training and proficiency testing activities; (9) serves as appropriately designated national and international reference centers for various foodborne bacterial diseases, waterborne bacterial and parasitic diseases, and mycotic diseases; (10) develops clear health promotion strategies, campaigns, and messages to promote prevention and control, including strategies specifically aimed to improve the health outcomes of populations at disproportionate risk of these diseases; (11) coordinates with other Federal agencies and partners organizations to prevent foodborne, waterborne, other enteric, and mycotic diseases; (12) provides staffing and support for emergency responses at program, division, Center, and agency levels; and (13) trains Epidemic Intelligence Service (EIS) officers, fellows, students, staff, and visiting scientists from the United States and abroad.

Office of the Director (CRB1). (1) directs and manages the programs and activities of DFWED; (2) provides leadership and guidance on policy, communication, prevention science, program planning and development, program management, and operations; (3) coordinates or assures coordination with the appropriate CDC and NCEZID offices on administrative and program matters; (4) reviews, prepares, and coordinates Congressional testimony and briefing documents related to enteric and fungal diseases and analyzes programmatic and policy implications of legislative proposals and analyzes programmatic and policy implications of legislative proposals; (5) represents CDC and NCEZID programs and prevention policies in meetings with governmental, private, and international organizations; (6) advises CDC and NCEZID on policy and communication matters concerning DFWED programs and activities; (7) coordinates, advises, and conducts internal and external communications activities for the division, including communication research, public affairs, social media, and web; (8) leads and manages consumer food safety education for the division, including representing cross-cutting CDC consumer food safety education efforts with governmental, private, and international organizations; (9) provides statistical support across the division by developing novel methods or adapting existing methods for assisting in outbreak investigations, disease surveillance efforts, research studies, and developing statistical acumen of staff; (10) coordinates the division's data management and informatics efforts to align with division and agency data and surveillance priorities; (11) facilitates the division capacity-building program activities under the Epidemiology and Laboratory Capacity (ELC) Cooperative Agreement including providing guidance and technical assistance to state, local, and territorial agencies about implementing foodborne, waterborne, and other enteric disease surveillance and response activities; (12) supports the development, implementation, and evaluation of model practices and quality improvement initiatives associated with division's capacity building activities; (13) defines and implements division-wide priority prevention efforts; (14) collaborates with Federal agencies and industry partners to support related external activities; (15) provides oversight for CDC involvement in the World Health Organization (WHO) International Food Safety Authorities Network and training in foodborne, waterborne, and other enteric disease control and prevention; (16) provides subject matter expertise on environmental research, and promotes and coordinates related research activities at CDC and with collaborative partners; (17) provides leadership in preventing and controlling foodborne illness by coordinating related activities within CDC and with other local, state, Federal, and international organizations; (18) advises and supports the activities related to development of long-term NCEZID and CDC strategies, policies, and budgets for foodborne disease prevention activities; (19) allocates and tracks resources, including interagency, within CDC for foodborne disease surveillance, outbreak response, applied research, education and training; (20) administers and tracks resources for foodborne disease prevention and control activities of national organizations representing state and local health departments; (21) represents NCEZID and CDC programs and prevention policies in meetings with governmental, non-governmental, private, and international organizations, and (22) enhances interagency coordination and collaboration of public health activities with the Food and Drug Administration (FDA) and the U.S. Department of Agriculture, including through interagency liaisons.

Enteric Diseases Epidemiology Branch (CRBB). (1) conducts surveillance, investigation, analyses, and research on bacterial enteric diseases and provides consultations to state and local health departments, other Federal agencies, and national and international health organizations on pathogens transmitted by food, water, and contact with animals or their environments, and from one person to another; (2) conducts surveillance for and analyses of summary data on outbreaks of acute enteric illness in the United States; (3) devises methods and conducts analyses to measure the burden of and trends in bacterial enteric diseases, with a special focus on those transmitted by food; (4) devises methods and conducts analyses to attribute bacterial enteric illnesses to specific food categories; (5) as part of the National Antimicrobial Resistance Monitoring System (NARMS), conducts surveillance, investigation, analyses, and research on antimicrobial resistance in bacterial enteric organisms, including measurements of trends; (6) performs studies to determine risk factors for, and host and etiologic agent factors related to, bacterial enteric diseases; (7) coordinates and collaborates in national and international enteric disease surveillance, training, and studies; (8) coordinates the investigation and control of enteric diseases with other CDC groups and with other U.S. Federal and local government agencies, state health departments, and international health agencies; (9) participates with other CDC groups, state health departments, regulatory agencies, industry, and other groups in determining and assessing the effectiveness of prevention strategies for acute bacterial enteric diseases; (10) prepares and disseminates health communication materials on the prevention of acute bacterial enteric diseases and their long-term health effects; and (11) provides information and expert advice to policy makers about bacterial enteric diseases and their acute and long-term health effects.

Enteric Diseases Laboratory Branch (CRBC). (1) uses molecular surveillance to identify problems and track trends in foodborne and diarrheal diseases; (2) maintains expertise in microbiology, molecular biology, immunology, and microbial pathogenesis of organisms that cause foodborne and diarrheal diseases; (3) coordinates PulseNet, a network of public health laboratories created to build capacity to identify, investigate, and control health threats across the nation; (4) informs outbreak investigations, other public health investigations, and applied research to identify risk factors and improved prevention strategies; (5) detects and characterizes bacterial enteric pathogens, including Clostridium botulinum, that could be involved in unintentional or bioterrorism events (6) conducts surveillance, investigation, analyses, and research on antimicrobial resistance, including managing the laboratory component of the NARMS at CDC; (7) improves methods for and utilization of laboratory-based surveillance; (8) uses laboratory and other data to guide control and prevention strategies for foodborne and diarrheal illness; and (9) partners with reference laboratories throughout the world to build capacity for the diagnostic and molecular surveillance of foodborne infections both domestically and internationally.

Outbreak Response and Prevention Branch (CRBD). (1) provides epidemic aid, investigation, analysis, and consultation on foodborne and zoonotic diseases outbreaks to state and local health departments, other Federal agencies, and national and international health organizations; (2) coordinates outbreak response activities within the Enteric Diseases OutbreakNet, a national network of epidemiologists and other public health officials who investigate outbreaks of foodborne, zoonotic, waterborne, and other enteric illnesses in the United States; (3) coordinates the investigation and control of enteric health problems with other CDC groups, and within other U.S. Federal and local government agencies, state health departments, and foreign health agencies; (4) develops and evaluates prevention strategies for foodborne and zoonotic diseases in consultation with regulatory agencies, industry, and other health agencies; (5) develops, evaluates, and supplies outbreak investigation tools and training materials for state and local health departments; (6) supervises EIS field investigations; (7) prepares and disseminates health communications materials on the control and prevention of foodborne and zoonotic disease outbreaks; and (8) provides information and expert advice to policy-makers and regulatory authorities on the control and prevention of foodborne and zoonotic disease outbreaks.

Waterborne Disease Prevention Branch (CRBE). (1) identifies, tracks, and assesses risk factors, causes, and sources of water, sanitation, and hygiene (WASH)-related illness cases and outbreaks; (2) prepares for and responds to water-related emergencies and disease outbreaks, provides assistance and capacity to state and local health departments, other Federal agencies, national ministries of health, and international health organizations; (3) develops appropriate sampling, detection, tracking, and assessment methods for clinical, water, and other environmental specimens; (4) develops and evaluates methods for pathogen inactivation or removal; (5) provides diagnostic and clinical consultation services for waterborne protozoan parasitic infections; (6) develops, monitors, and evaluates existing and new public health interventions; (7) develops clear health promotion strategies, campaigns, and messages; (8) provides partners with technical and capacity building assistance; (9) leads national surveillance systems for WASH-related diseases and outbreaks; (10) collects data for public health policy development and evaluation; and (11) coordinates with Federal agencies and partner organizations on WASH-related disease prevention efforts.

Mycotic Diseases Branch (CRBG). (1) provides epidemic aid, surveillance, laboratory support, and consultation on the prevention and control of established, emerging, reemerging, and opportunistic mycotic (i.e., fungal) diseases; (2) provides reference and diagnostic support for agents causing mycotic diseases and for the identification of unknown mycotic isolates associated with human disease; (3) coordinates and collaborates with state and local health departments, other Federal agencies, and national and international health organizations in order to detect, respond to, and prevent mycotic diseases; (4) evaluates methods for the detection of established, emerging, reemerging, and opportunistic mycotic diseases; (5) develops, implements, and evaluates prevention and control strategies for these diseases; (6) collaborates with other CDC Centers, Institute, and Offices (CIOs), NCEZID divisions, state and Federal agencies in addressing reemerging mycotic diseases; and (7) provides information and expert advice to policy-makers and regulatory authorities on the control and prevention of mycotic diseases outbreaks

Division of Global Migration Health (CRC). The mission of the Division of Global Migration Health (DGMH) is to reduce morbidity and mortality among immigrants, refugees, travelers, expatriates, and other globally mobile populations, and to prevent the introduction, transmission, and spread of communicable diseases through regulation, science, research, emergency preparedness, and response. In carrying out its mission, DGMH: (1) administers a national public health program to protect the United States against the introduction of diseases from foreign countries and the transmission of communicable disease between states; (2) administers an overseas program for the medical examination of immigrants, refugees, and as necessary, other migrant populations applying for legal entry to the United States, to identify those with inadmissible health conditions that would pose a threat to public health and impose a burden on public health and hospital facilities; (3) conducts public health surveillance, research, and prevention programs to detect, prevent, and minimize morbidity and mortality among globally mobile populations entering and leaving the U.S.; (4) maintains liaison with other Federal agencies, state and local health departments, and other partners, and provides information on global migration and public health threats related to travel and migration and on requirements under CDC's authority and International Health Regulations (IHR); (5) serves as a liaison with international health organizations and participates in the development of international agreements affecting the health of globally mobile populations; (6) develops, enforces, and evaluates policies necessary for implementation of Federal quarantine authorities protecting the public's health through actions taken at ports of entry (POE) or for travelers entering or traveling interstate within the United States or of CDC-regulated items; (7) conducts studies to provide new information about health hazards abroad, measures for their prevention, and the potential threat of disease introduction into the United States, and develops educational materials for travelers and travel medicine providers; (8) provides logistic support to other programs of the CDC in the distribution of requested therapeutics available under CDC-maintained investigational new drug protocols and movement of biological specimens through U.S. POE; (9) advances preparedness and response for public health emergencies and threats associated with the introduction of diseases from foreign countries and the transmission of communicable disease between states; and (10) provides staffing and support for emergency responses at program, division, Center, and agency levels.

Office of the Director (CRC1). (1) manages, directs, and coordinates the strategies and activities of the division; (2) provides scientific leadership including oversight of scientific integrity and quality and health equity; (3) directs development of division policy, program planning, and partnerships, and implements regulatory responsibilities,; (4) identifies needs and resources for new initiatives and assigns responsibilities for their development; (5) coordinates liaison with international health organizations, other Federal agencies, state and local health departments, and interested industries on matters related to travel and migration; (6) provides support for the administration of interstate and foreign quarantine regulations and compliance with the IHR; (7) coordinates division emergency preparedness, readiness, response guidance and operations for international and domestic public health incidents; (8) reviews and evaluates all administrative services for headquarters, border health stations, and overseas offices, and provides policy procedures and guidance on such matters; (9) provides communication strategy and product development; (10) coordinates division strategic workforce and Diversity, Equity, Inclusion, Belonging, and Accessibility objectives, and (11) supports science with data, advanced analytics, and technology.

Division of Healthcare Quality Promotion (CRD). The mission of the Division of Healthcare Quality Promotion (DHQP) is to protect patients; protect healthcare personnel; and promote safety, quality, preparedness, resilience, equity, and value in both national and international healthcare delivery systems. In carrying out its mission, DHQP: (1) measures, validates, interprets, and responds to data relevant to healthcare-associated infections (HAI); antimicrobial use and resistant infections; sepsis, adverse drug events; blood, organ and tissue safety; and immunization safety; environmental hygiene; and other related topics and adverse events in healthcare settings; (2) leads responses to, investigates and addresses emerging problems and infections, antimicrobial resistance, and related adverse events among patients and healthcare personnel, and in communities affected by antimicrobial resistant or healthcare-associated pathogens; (3) develops and maintains the National Healthcare Safety Network (NHSN), a national system for monitoring healthcare-associated infections, antimicrobial use and resistance, measuring healthcare outcomes and processes, and monitoring healthcare personnel vaccination and selected health measures in healthcare facilities; (4) assesses local, regional, national scope and burden of infections caused by antimicrobial resistant-bacteria in the United States and internationally, through surveillance and special studies, review of healthcare data sets, and laboratory surveillance programs; (5) conducts epidemiologic, and basic and applied laboratory research to identify new strategies to detect, track, and prevent infections/antimicrobial resistance, and related adverse events or medical errors, including those associated with the safety of medical or surgical procedures, indwelling medical devices, medical product contamination, dialysis, healthcare environments and water; (6) collaborates with academic, industry, and government partners to design, develop, and evaluate new public health approaches to monitoring infections and the efficacy of interventions for preventing infections, improving antibiotic use, and reducing antimicrobial resistance, and related adverse events or medical errors; (7) develops and disseminates evidence-based guidelines and recommendations to prevent and control HAI, antimicrobial resistance, and related adverse events in healthcare settings; (8) collaborates with Federal, state, and local public health and private partners to promote nationwide implementation of CDC Guidelines and other evidence-based interventions to prevent HAI, antimicrobial resistance, and related adverse events or medical errors among patients and healthcare personnel; (9) evaluates the impact of evidence-based recommendations and interventions across the spectrum of healthcare delivery sites; (10) serves as the DFO for, provides technical support to, and manages the Healthcare Infection Control Practices Advisory Committee (HICPAC); (11) serves as the National Reference Laboratory for the identification and antimicrobial susceptibility testing of staphylococci, anaerobic bacteria, non-tuberculous mycobacteria, and gram-negative bacilli causing healthcare-associated and related community infections; (12) serves as the technical reference laboratory for detection and characterization of other pathogens related to healthcare, and for characterizing the contribution of the healthcare environment to HAI and antimicrobial resistant infections, and impacts on surrounding communities; (13) serves as a global resource for healthcare associated infections, antimicrobial resistance, and environmental hygiene; (14) coordinates guidance and research related to infection control and antimicrobial resistance across the agency and with national and international partners; (15) monitors vaccine safety and conducts research to evaluate the safety of available and new vaccines; (16) trains EIS Officers, Laboratory Leadership Fellows, and other trainees in national public health; (17) coordinates agency-wide antimicrobial resistance activities and investments; (18) works in a national leadership capacity with public and private organizations to enhance antimicrobial resistance prevention and control, surveillance and response, and applied research; (19) coordinates and provides expertise and investigative capacity for blood, organ, and other tissue safety issues at CDC; (20) provides expertise and assistance to HHS and other Federal agencies and global partners on efforts and activities related to safe healthcare; (21) leads international healthcare quality improvement and infection control efforts; (22) represents CDC in international convenings related to healthcare quality and antimicrobial resistance; (23) leads the partnerships between CDC and other HHS counterparts on healthcare quality topics and activities; (24) builds and supports HAI and antimicrobial resistance prevention and control efforts of state and local public health entities and laboratories; (25) delivers tailored consultation and training content to healthcare facilities and personnel across the spectrum of US healthcare; (26) assesses and improves safety of healthcare personnel related to HAI and related threats; (27) assesses and improves equity in healthcare delivery; (28) improves the effectiveness and safety of healthcare practices, protocols, systems, and equipment use related to infection prevention and control; (29) coordinates infection prevention and control content for non-pharmaceutical interventions across community settings; and (30) provides staffing and support for emergency responses at program, division, Center, and agency levels.

Office of the Director (CRD1). (1) manages, directs, and coordinates the activities of DHQP; (2) provides strategic direction and coordination of communication, policy, and partnership programs and activities; (3) provides leadership and guidance on policy impacting patient and healthcare safety; (4) leads targeted patient safety communication campaigns coordinated with release of CDC surveillance data, infection control guidelines, national and international healthcare related response activities, research and policy publications, and prevention tools; (5) fosters strategic partnerships with clinical professional organizations, academic entities, research institutes, healthcare systems, consumers and other partners to eliminate HAI and related adverse events, prevent sepsis, combat antimicrobial resistance, improve health system equity and resilience; (6) leads and ensures accuracy of DHQP content for communication/media outreach, crisis communications, CDC web content, and content for social media platforms; (7) works with Federal agencies, international organizations, and other partners on activities related to safe healthcare; (8) monitors, supports, and connects state activities to track and prevent HAI and antimicrobial resistance; (9) identifies consensus goals and implements portfolio management across DHQP programs to meet those goals; (10) oversees the quality of DHQP research and scientific activities and identifies knowledge gaps; (11) provides leadership and strategic planning for program growth and development; (12) provides administrative and program services, managerial and operations support, and coordination with the appropriate CIOs and CDC staff offices on administrative and program matters including budget formulation and execution and human resource management; (13) oversees the coordination of Federal and state programs and new initiatives to prevent HAI, immunization safety, other healthcare adverse events, and antimicrobial resistance; (14) interprets general program and administrative policy directives for implications on management and execution of DHQP programs; (15) serves as lead and primary contact and liaison with relevant CDC staff offices for procurement requirements; (16) provides management and coordination for DHQP-occupied space and facilities including laboratory space and facilities; (17) provides oversight and management of the distribution, accountability, and maintenance of CDC property and equipment including laboratory property and equipment; (18) advises the Director, NCEZID, on science, policy and communication matters concerning DHQP activities and subject areas; (19) provides program and Federal advisory committee administrative support for HICPAC; (20) serves as a division and agency resource for systematic evidence review, analysis, and guideline production for infection prevention and control; and (21) coordinates infection prevention and control (IPC) content for non-pharmaceutical interventions across community settings.

Antimicrobial Resistance Coordination and Strategy Unit (HRD12). (1) oversees the coordination of antimicrobial resistance activities at CDC to meet national goals; (2) represents CDC in interagency activities on Antimicrobial Resistance including the President's Advisory Committee for Combatting Antibiotic Resistant Bacteria; (3) coordinates with other agencies, state and national governments, medical societies, and other public and private organizations to enhance domestic and international antimicrobial resistance prevention and control, surveillance and response, and applied research; (4) represents CDC at the Transatlantic Task Force on Antimicrobial Resistance (AR); (5) oversees CDC AR budget to implement AR activities as part of the Federal Action Plan to Combat Antibiotic Resistant Bacteria; (6) coordinates policies and communications of programs across CDC related to antimicrobial resistance; (7) ensures coordination with appropriate CIOs and CDC staff offices on AR program matters including budget formulation and execution; (8) provides updates and reports about CDC AR activities and progress to CDC Director, HHS, and the White House; (9) oversees coordination of CDC collaborations and new Federal initiatives to detect, respond and prevent antimicrobial resistance; and (10) oversees and coordinates activities of the Antimicrobial Regional Laboratory Network (ARLN), including the AR regional labs across CDC and with states and partners and the Global Antimicrobial Laboratory and Response Network with countries and international partners.

Immunization Safety Office (CRDB). Assesses the safety of new and currently available vaccines received by children, adolescents and adults using a variety of strategies: (1) conducts ongoing surveillance for the timely detection of possible adverse events following immunization (AEFI) in collaboration with the Food and Drug Administration, through implementation and management of the Vaccine Adverse Event Reporting System, the national reporting system that acts as an early-warning system to detect health conditions that might be associated with an immunization; (2) coordinates, further develops, maintains and directs activities of the Vaccine Safety Datalink (VSD), a collaborative effort with integrated healthcare organizations able to perform rapid epidemiologic research on potential causality for AEFI using the VSD and other data sources, provide national estimates of incidence of AEFI, and determine background rates of health conditions; (3) leads the nation in developing biostatistical methods for research of AEFI using large linked databases and other data sources, and shares methods for use by other agencies and public and private entities; (4) conducts clinical research to identify causes of adverse events after immunization, specific populations susceptible to specific adverse events, and prevention strategies through the DHQP supported Clinical Immunization Safety Assessment network, a national network of medical research centers, and through other research efforts; (5) applies findings from epidemiologic and clinical studies to develop strategies for prevention of AEFI; (6) provides global consultation and leadership for the development, use, and interpretation of vaccine safety surveillance systems, and for the development of shared definitions of specific health outcomes through participation in the Brighton Collaboration and other international organizations; (7) provides data for action to HHS, the Federal Advisory Committee on Immunization Practices (ACIP), the FDA's Vaccine and Related Biological Products Advisory Committee, Health Resources and Services Administration's Advisory Commission on Childhood Vaccines, and international collaborators including the WHO Global Advisory Committee on Vaccine Safety; and (8) provides timely, accurate communication and education to partners and the public on vaccine safety issues.

Clinical and Environmental Microbiology Branch (CRDC). (1) leads national laboratory characterization of HAI-related threats in partnership with state and regional laboratories; (2) provides comprehensive laboratory support and expertise for investigations of recognized and emerging pathogens in healthcare settings, such as methicillin-resistant S. aureus, carbapenem-resistant Enterobacteriaceae, and Clostridium difficile; (3) provides laboratory response to outbreaks and emerging threats associated with infections/antimicrobial resistance and related adverse events throughout the healthcare delivery system; (4) innovates methodologies determining environmental contribution to healthcare related outcomes, assesses environmental hygiene, and develops methods to assess contamination of environmental surfaces and medical devices; (5) investigates novel and emerging mechanisms of antimicrobial resistance among targeted pathogens found in healthcare settings; (6) conducts research in collaboration with partners to develop new, accurate methods of detecting antimicrobial resistance in bacteria for early detection of emerging resistance; (7) conducts laboratory research to identify new strategies to prevent infections/antimicrobial resistance, related adverse events, and medical errors, especially those associated with invasive medical devices, contaminated products, environmental surfaces, air-handling, dialysis, and water; (8) maintains capacity to evaluate commercial microbial identification and antimicrobial susceptibility testing systems and products and facilitates their improvement to provide accurate patient test results; (9) investigates the role of biofilms, particularly those detected in indwelling medical devices and medical water systems, in medicine and public health, and identifies novel methods to eliminate colonization and biofilm formation, including on medical devices; (10) characterizes and investigates the role of microbiomes in the prevention of infections and antimicrobial resistance; (11) investigates the role of the water distribution systems in healthcare facilities in order to understand and prevent transmission of healthcare-associated infections due to water, and the impact of healthcare effluents on surrounding environments and communities; (12) provides expertise, research opportunities, training, and laboratory support for investigations of infections and related adverse events to other CDC centers and to partners in areas related to quality of clinical microbiology laboratory practices, the investigation of emerging pathogens, and environmental microbiology; (13) leads ARLN activities related to healthcare pathogens and provides assistance to state and regional labs participating in the network; (14) maintains and manages the Federal AR Isolate Bank, providing access to curated collections of AR pathogens to academic and industry partners, including those developing new assays and therapeutics to address AR threats; (15) integrates epidemiology of healthcare associated pathogens with molecular genetics and whole genome sequencing data and bioinformatics to identify, categorize and attribute pathogens and related genetic elements relevant to healthcare settings; and (16) assesses, supports and implements use of innovative technologies and approaches to more accurately and rapidly detect healthcare-related pathogens and initiate containment of spread.

Prevention and Response Branch (CRDD). Across the healthcare continuum, including acute, long-term, ambulatory, and chronic care settings: (1) develops, promotes, and monitors implementation of evidence-based practices, policies, strategies and related educational materials to prevent and control HAI and related adverse events affecting patients and healthcare personnel, associated with antibiotic resistance, device and procedure associated infections, lapses in adherence to quality standards and safety, and emerging resistance; (2) uses data from the NHSN and other sources to target and improve the prevention and control healthcare-associated infections and antimicrobial resistance in the United States in specific regions, settings and institutions; (3) supports local, state, and national efforts to prevent HAI, antimicrobial resistance, and related adverse events by providing leadership and technical expertise, including assessing effectiveness of CDC-recommended prevention practices; (4) provide leadership and epidemiologic support for the investigation, monitoring, and control of both recognized and emerging healthcare pathogens, including antimicrobial resistant bacteria; (5) leads response and control of outbreaks and emerging threats involving HAI and related adverse events, contaminated medical products and devices, and adverse drug events; (6) communicates the results of response activities with Federal and state agencies, healthcare providers, and the public, with recommendations to prevent similar adverse events in the future; (7) provides leadership, guidance, and technical support to and collaborates with other CDC CIOs, other HHS operating divisions, and extramural domestic partners, on the epidemiology and prevention and control of HAI, antimicrobial resistance and related adverse events; (8) manages and directs the national program supporting state and local public health agencies to assess and implement activities to prevent HAIs and antimicrobial resistance in their jurisdictions; and (9) coordinates production of interim infection control guidance for emerging infectious threats.

Surveillance Branch (CRDE). (1) monitors and evaluates the extent, distribution, and impact of healthcare-associated infections, antimicrobial use and resistance, adverse drug events, healthcare preparedness/resilience factors and healthcare worker safety events in the United States through the NHSN, providing data to prevent or control adverse exposures or outcomes in healthcare; (2) provides services, including leadership, consultation, and analytic support to investigators in the branch, division, and other organizations applying NHSN data to surveillance, research studies, and efforts targeting prevention and control of HAI and other healthcare-associated adverse events; (3) works with the Centers for Medicare and Medicaid Services (CMS) to support CMS payment processes that rely on NHSN data; (4) partners with CMS and others to develop new metrics and support maintenance of National Quality Forum-approved metrics; (5) collaborates with public and private sector partners to further standardize, integrate, and streamline systems by which healthcare organizations collect, manage, analyze, report, and respond to data on HAI, including transmission of multi-drug resistant organisms; (6) coordinates, further develops, enables wider use, and maintains NHSN to obtain scientifically valid clinical performance indices that promote healthcare quality and value at the facility, state, and national levels; (7) develops and implements new NHSN modules to track and prevent additional healthcare associated harms; (8) provides enrollment, security, and user support for over 37,000 NHSN enrolled facilities; (9) improves surveillance systems by utilizing new technology; and (10) generates and provides NHSN surveillance reports and analyses, which include collaborative analytic projects with partners.

Epidemiology Research and Innovations Branch (CRDG). (1) identifies and evaluates the efficacy and effectiveness of interventions to prevent HAI and related adverse events or medical errors across the spectrum of healthcare delivery sites including acute and long-term inpatient care, dialysis, and ambulatory settings; (2) identifies gaps in HAI-related knowledge and conducts prevention research through the Prevention Epicenters cooperative agreements program and Safety and Healthcare Epidemiology Prevention Research Development research contracts; (3) conducts and supports research and evaluates impact of public health practices to prevent HAIs, antimicrobial resistance, sepsis and related adverse events; (4) improves methods and enables wider use of clinical performance measurements by healthcare facilities and public health entities for specific interventions and prevention strategies designed to safeguard patients and healthcare workers from risk exposures and adverse outcomes through collaborations with extramural partners; (5) conducts applied research to identify and develop innovative methods, including modeling and economic analyses, to detect, characterize, monitor, and predict healthcare threats including HAI, sepsis and antimicrobial resistance; and (6) conducts special studies to identify and characterize emerging healthcare threats working with the Emerging Infections Program and other partners.

Division of High-Consequence Pathogens and Pathology (CRE). The Division of High-Consequence Pathogens and Pathology (DHCPP) maximizes public health and safety nationally and internationally through the diagnosis, prevention, and control of disease, disability, and death caused by suspected and known viral, bacterial, prion, and related infections. In carrying out its mission, DHCPP: (1) conducts surveillance, investigations, and studies of viral and bacterial diseases, including bioterrorism agents, as well as of transmissible spongiform encephalopathies, or prion diseases, and severe diseases of unknown, but suspected infectious, etiology to define their etiology and epidemiology, and to develop effective methods for diagnosis, treatment, control, and prevention; (2) conducts or participates in clinical, field, and laboratory research to develop, evaluate, and improve laboratory methods, materials, and therapeutic practices used for diagnosis, treatment, control, and prevention of viral, bacterial, and prion diseases, including bioterrorism agents; (3) conducts research on virus and bacterial transmission to develop effective control and prevention strategies and on vaccine effectiveness to assess prevention potential; (4) conducts laboratory, clinical, and epidemiologic studies of highly hazardous disease agents that require biosafety level 3 or biosafety level 4 security for their safe handling; (5) conducts ecological studies to develop and evaluate disease control and prevention measures; (6) provides epidemic aid, epidemiologic consultation, reference and diagnostic services, and technical assistance to state and local health departments, other Federal agencies, and national and international health organizations; (7) provides scientific and technical assistance to other CDC components when the work requires unique expertise or specialized equipment not available in other components; (8) provides routine and specialized laboratory training in the diagnosis, isolation, and characterization of viral and bacterial agents to personnel from state and local health departments and other national and international organizations; (9) provides training opportunities for EIS officers and others in CDC sponsored programs, including postgraduate students, postdoctoral fellows, and other public health and laboratory scientists; (10) provides expert pathological support for various infectious diseases to other groups at CDC, state and local health departments, and national and international organizations; (11) provides staffing and support for emergency responses at program, division, Center, and agency levels; and (12) serves as appropriately designated national and WHO Collaborating Centers for viral and bacterial diseases.

Division of Infectious Disease Readiness and Innovation (CRG). The Division of Infectious Disease Readiness and Innovation (DIDRI) works to build and strengthen public health capacity and readiness by enhancing the ability of CDC and its public health partners to prepare for, prevent, and respond to emerging and reemerging infectious diseases, including outbreaks, and other public health emergencies, through cross-cutting and innovative programs, technical expertise, and public health leadership. In carrying out these activities, DIDRI: (1) collaborates with state, tribal, local, and territorial (STLT) health departments, and other external groups for infectious disease programs and responses to enhance preparedness, and develop innovative responses to emerging and reemerging infectious diseases with a goal of increasing capacity of STLT health departments; (2) leads national wastewater surveillance to understand community-level data on infectious diseases and other emerging health issues, and facilitates exchange of data with frontline public health practitioners, clinicians, decision-makers, key partners, and the public; (3) conducts innovative surveillance and other public health practices to detect, control, prevent, and respond to emerging infectious diseases; (4) supports clinical and public health partners to address health equity and rapidly respond to infectious diseases and outbreaks; (5) works with infectious disease programs on processes for developing, awarding, managing, and evaluating infectious disease grants and cooperative agreements; (6) provides subject matter expertise for infectious disease and health informatics; (7) conducts analysis of infectious diseases using various analytic techniques in coordination with CDC infectious disease programs; (8) conducts, supports, and evaluates activities aimed at identifying and reducing risk factors for infectious diseases overall and among residents of the Arctic and Subarctic regions; (9) collaborates with public health partners to identify and eliminate health disparities among Alaska Natives, American Indians, and indigenous populations; (10) implements the Advanced Molecular Disease program by integrating advanced molecular technologies into the public health system to strengthen the prevention and response to significant public health threats and improve identification and characterization of various pathogens; (11) provides cross-cutting infectious disease support for evaluation and modeling to assess public health impact; (12) establishes integrated and sustainable laboratory data and systems that are accessible to all public health organizations; and (13) provides staffing and support for emergency responses at program, division, Center, and agency levels.

Office of the Director (CRG1). (1) manages, directs, and coordinates the activities of the division, and advises the NCEZID Director, NCEZID divisions, and CDC leadership on emerging infectious disease science, readiness, response, and innovation; (2) provides leadership and guidance on division policy, communication, program planning, program management, and operations; (3) provides division-wide administrative and program services and ensures coordination with the appropriate CIO or staff offices on administrative and programmatic matters; (4) partners with Federal agencies, STLT health departments, international organizations, academic institutions and other external groups on readiness and innovative responses to emerging and reemerging infectious diseases; (5) ensures coordination of cross-cutting division activities with NCEZID divisions, and CDC CIOs; (6) advances health equity through scientific and programmatic infectious disease activities; and (7) improves the understanding of factors involved in infectious disease emergence, prevention, and elimination.

Arctic Investigations Program (CRGB). (1) conducts, supports, and evaluates activities to improve the health of people of the Arctic and Subarctic regions, with special emphasis on reducing and preventing infectious diseases of high incidence and concern among Alaska Natives and American Indians; (2) collaborates with programs across CDC; local, state, and tribal partners; the Indian Health Service; and other national and international partners to reduce, prevent, and respond to infectious disease threats; (3) ensures public health preparedness and prevention of infectious diseases by conducting infectious diseases surveillance, providing and evaluating prevention services, and conducting targeted epidemiologic and laboratory research; (4) works with public health partners to identify and eliminate health disparities among American Indians, Alaska Natives, and other indigenous populations; and (5) provides leadership to improve health in the Circumpolar region.

Division of Core Laboratory Services and Response (CRH). The mission of the Division of Core Laboratory Services and Response (DCLSR) is to provide products, services, and specialized expertise to CDC programs in support of emergency response activities, laboratory research, and laboratory operations. To carry out its mission, DCLSR: (1) provides laboratory support to outbreak responses through specimen accessioning, pre-clinical processing of diagnostic specimens, surge testing capacity, and long-term sample management, including the CDC Biorepository; (2) provides laboratory supplies, glassware, mammalian tissue cultures, microbiological media, special reagents, and other laboratory materials in support of research and service activities to laboratories and CDC investigators; (3) promotes animal welfare and improves the quality and integrity of animal-based research by engaging in independent and collaborative research, providing state-of-the-art training to researchers and partners, and offering a broad range of fully integrated professional veterinary services; (4) works with CDC pathogen-specific programs in the evaluation of existing and in the design of innovative and novel diagnostic tests and assays (molecular, immunological, and sequence based) and evaluation of new instrument platforms and technologies to detect emerging and known pathogens; (5) develops and implements applied research programs to expand and enhance the use of animal models necessary to support research and diagnostic programs and to improve breeding and husbandry procedures; (6) conducts applied research in cell biology and in the expansion of tissue culture technology as a research and diagnostic tool for infectious disease activities; (7) provides services for laboratory investigators in protein and DNA synthesis and sequencing, genomic sequencing, microarrays, proteomics, and molecular modeling; (8) obtains and distributes experimental and orphaned vaccines, drugs, antisera, antitoxins, and immune globulins; (9) manages and distributes the inventory, maintains the computerized system database, and provides general technical service support for the dispensing, lyophilizing, capping, and labeling of CDC reference reagents; (10) receives, triages, processes, and distributes specimens to CDC laboratories for reference diagnostic testing, research studies, and epidemics and reports diagnostic test results to submitting organizations; (11) manages all CDC exports and ensures compliance with regulations and serves as CDC liaison with the Department of Commerce for export-related issues; (12) produces and distributes specialized reagents and diagnostic kits for research and development, surveillance, preparedness activities, outbreak and emergency response; (13) provides services and expertise in development of quality systems to support compliance with FDA regulations on production, distribution, and use of laboratory diagnostic reagents; (14) provides liaison activities, resources, and expertise for inquiries related to animals and zoonotic diseases; (15) provides a centralized activity for tracking requests for and distributing select agents to investigators outside of CDC in compliance with Federal regulations; and (16) provides staffing and support for emergency responses at the program, division, Center, and agency levels.

Office of the Director (CRH1). (1) manages, directs, and coordinates the activities of DCLSR; (2) provides leadership and guidance on the development of strategic goals, objectives, and milestones to advance the vision and mission of DCLSR; (3) distributes investigational and licensed drugs and unique biologicals (antitoxins) to approved physicians for the treatment of rare, tropical, or exceptional diseases; (4) develops administrative policies, processes, and operations for the division; (5) ensures that health equity principles are applied in all DCLSR activities; (6) works to ensure that spending plans and budgets are executed and aligned with the strategic priorities of the division; (7) works with NCEZID Office of the Director to establish and maintain a diverse, equitable, inclusive, and accessible workplace; (8) provides scientific, business, and policy oversight and guidance for all programs and activities housed in the division; and (9) works closely with other CIOs during outbreak investigations and on an ongoing basis, providing support, guidance, collaboration, and expertise.

Division of Vector-Borne Diseases (CRJ). (1) conducts surveillance, investigations, and studies of vector-borne viral, rickettsial, and bacterial diseases to define disease etiology and to develop effective methods and strategies for diagnosis, prevention, and control; (2) conducts investigations on the biology, ecology, and control of arthropod vectors of viral, rickettsial, and bacterial diseases as a basis for development of new and/or modification of existing measures for more effective prevention and control; (3) conducts or participates in clinical, field, and laboratory studies to develop, evaluate, and improve laboratory methods, materials, and therapeutic practices used for diagnosis, prevention, and treatment of vector-borne infectious diseases; (4) provides epidemic aid and epidemiologic consultation, upon request, to state and local health departments, other Federal agencies, and national and international health organizations; (5) provides reference/diagnostic services for vector-borne viral, rickettsial, and bacterial diseases to state and local health departments, other Federal agencies, and national and international health organizations; (6) conducts research and collaborates on development and evaluation of vaccines; (7) provides scientific and technical assistance to other CDC components when the work requires unique expertise or specialized equipment not available in other components; (8) provides intramural and extramural technical expertise and assistance in professional training activities; (9) serves as designated national and international reference centers for vector-borne viral, rickettsial, and bacterial diseases; and (10) provides staffing and support for emergency responses at program, division, Center, and agency levels.

IV. Under Part C, Section C-B, Organization and Functions, add the following functional statements:

Travel Risk Assessment and Mitigation Branch (CRCB). (1) supports and evaluates public health preparedness activities for response to communicable diseases at airports, seaports, and land crossings in the United States including establishing accords with hospitals to ensure adequate isolation and care of persons with certain communicable diseases; (2) reviews operations to innovate and use scientific methods to inform more effective surveillance and response activities to prevent the importation and spread of quarantinable and other communicable diseases linked to travel from posing a threat to the U.S. population; (3) establishes partnerships and provides technical assistance to Federal, state/territorial, industry and international partners on domestic and international border health issues; (4) enforces public health authorities and collaborates with state and local health departments to prevent disease transmission associated with travel and offers local officials consultation on isolation, quarantine, and other public health interventions in collaboration with the Port of Entry Operations Branch; (5) contributes border health expertise to the transportation sector in the United States, abroad, and to multilateral bodies, including sharing recommendations on public health risk assessment and management practices, and conducts communications, media, and training for the Travel Risk Assessment and Mitigation and the Port of Entry Operations team members; (6) develops content for websites, videos, and maps to support airport partners and the public at POE regarding public health threats and Federal regulations delegated to CDC, including providing guidance to partners that implement CDC's delegated regulatory authorities at U.S. borders; (7) provides epidemiological support for activities related to border health and globally mobile populations including implementation of analytical projects to build scientific evidence for travel-related mitigation measures and dissemination of results for public health action; (8) provides technical consultation and develops public health training to border health staff and other agencies carrying out Federal inspections services at POE to enforce HHS/CDC regulations on quarantine; (9) serves as an identified point of contact with Federal security agencies when health, travel, and security intersect; and; (10) provides medical and veterinary-support to Port of Entry Operations Branch team members to respond to illnesses or HHS/CDC-regulated animals and other importations at POE.

Immigrant and Refugee Health Branch (CRCC). (1) recommends appropriate, effective intervention and prevention strategies to decrease morbidity and mortality among globally mobile populations and to prevent entry of disease into the United States; (2) implements enhanced public health interventions for refugees such as vaccination and presumptive treatment programs for intestinal parasites and malaria; (3) responds to refugee resettlement health emergencies overseas and domestically; (4) oversees, evaluates, and monitors the required overseas and domestic medical examinations of immigrants and refugees (and others for whom a medical exam is required), and prepares, publishes, updates, and distributes Technical Instructions for examining physicians; (5) works cooperatively with state health departments to form multi-state networks for health surveillance of refugees and to develop health guidance for health professionals who care for newly arrived refugees; (6) establishes, maintains, and evaluates notification procedures regarding immigrants and refugees, providing coordination and liaison with local and state health departments on the follow-up of those with serious diseases of public health significance, in particular notifiable diseases such as tuberculosis; (7) conducts continuing review, technical guidance, and evaluation of required immigration medical screening procedures to ensure the most effective application of current medical practices; (8) develops and administers training curricula for examining physicians to support rigorous adherence to the CDC Technical Instructions; (9) works cooperatively and in concert with other Federal and international agencies, voluntary agencies, and foreign governments, both in the United States and abroad, in administering required medical screening programs for immigrants, refugees, parolees, and non-immigrant visa applicants; (10) performs epidemiologic investigations and scientific research projects related to health issues for immigrant, refugee, and migrant populations; (11) establishes and maintains procedures to process requests for waivers for applicants with inadmissible medical conditions; (12) works with foreign governments and partners to establish or strengthen public health conditions for U.S.-bound populations, and other globally mobile populations for the prevention, detection, and response to infectious diseases; (13) provides support to international government and public health partners to strengthen global public health capacity to help prevent the spread of infectious diseases; (14) determines and strategically tracks factors that affect the health of U.S.-bound or recently arrived refugees, immigrants, and migrants through research, evaluation, and high-quality data sources and systems; and (15) educates Federal, state, and private agencies about health aspects of international child adoption procedures.

Travelers' Health Branch (CRCD). (1) improves the health of all global travelers, including underserved populations, and prevents the importation of communicable disease to the United States, the Travelers' Health Branch (THB) produces travelers' health recommendations for international travelers, healthcare providers, employers, and policymakers, (2) produces Travel Health Notices to inform travelers and other audiences about global health risks during outbreaks, special events or gatherings, and natural disasters, and provide advice on protective actions travelers can take to prevent infection and other adverse health effects; (3) conduct mapping and spatial representation of outbreak areas and areas where diseases are endemic; (4) produces the print and online premiere medical textbook on travel health medicine used by clinicians and other partners; (5) produces and maintains CDC Travelers' Health website, an online compendium of travel medicine information and recommendations; (6) supports surveillance systems for travel-related illness trends and pathogens through collaborations with national and international travel clinic networks and the development and evaluation of traveler and travel conveyance surveillance sampling and testing strategies for pathogen detection and characterization, (7) translates travel medicine science into actionable health information recommendations, including online educational products, and mobile tools; (8) manages a registry of national providers and yellow fever stamp owners, provides guidance regarding yellow fever vaccine requirements and recommendations for international travelers, and conducts ongoing surveillance for serious adverse events following yellow fever vaccination; (9) participates in ACIP workgroups regarding vaccines used for travelers and works with vaccine producers to ensure availability of travel vaccines; (10) collaborates with private partners to analyze global data on disease incidence and risk factors among travelers; (11) partners with international organizations such as the WHO to establish consensus on travel medicine evidence base, disease-specific data repositories, and definitions of diseases of relevance to travelers' health; (12) participates in emergency responses to provide support for traveler issues including surveillance, traveler health prevention and treatment recommendations; and (13) performs rapid assessments of available epidemiological information to develop public health risk assessment and guidance for travelers.

Port Health Protection Branch (CRCE). As CDC's representative at U.S. POE for mitigating biosecurity and emerging infections, (1) protects the public's health at U.S. borders and POE by working with state and local health departments, ministries of health, the WHO, and intergovernmental organizations in collaboration with the Travel Risk Assessment and Mitigation Branch; (2) responds to travel-related communicable disease threats and develops and implements strategies to prevent introduction and spread of diseases of public health concern arriving in persons, animals, cargo, and conveyances at U.S. POE; (3) documents those activities to provide surveillance of public health events occurring at sea, air, and land POE to the United States and its possessions; (4) provides public health training to field staff and other on-site agencies carrying out Federal inspection services at POE to enforce CDC regulations on quarantine, apply public health best practices, augment CDC's geographic reach at POE, and ensure appropriate occupational safety and health protection for their staff; (5) stores and rapidly distributes emergency and lifesaving medications not otherwise available for patients in the United States and its possessions from designated POE locations; (6) provides logistics support to other CDC programs and other partners and expedites the movement of persons, clinical specimens, and other materials through Federal security and the rest of the Federal inspection apparatus; and (7) provides in-person or telephone consultative response to public health threats at U.S. POE 24 hours a day and seven days a week with support of Quarantine Medical Officer(s) and Quarantine Veterinary Officer(s) from the Travel Risk Assessment and Mitigation Branch for reports of ill travelers, or problems with animals, biological materials, and other CDC regulated importations.

Southern Border Health and Migration Branch (CRCG). (1) provides scientific and technical support to the division and agency's operational and public health regulatory and emergency response responsibilities concerning infectious diseases among the U.S.-Mexico and other Latino binational populations and other globally mobile populations traversing the U.S. southern border, the busiest land border in the world; (2) focuses on the prevention and control of infectious diseases and expanding the health evidence base among the dynamic and globally mobile populations that reside in and travel through the southern U.S. land border region through activities including surveillance, illness response, epidemiologic investigations and analyses, and leveraging strategic partnerships and scientific collaborations (e.g., other Federal agencies, state and local health authorities, international and regional organizations, non-governmental organizations, and health authorities from Mexico and other key migrant stream countries); (3) supports the division's regulatory activities at southern U.S. land points of entry including illness response, animal, biologic and etiologic importations that have infectious disease implications for human health; (4) expands evidence base and intervention support for infectious diseases and health disparities among the populations that reside, work, and travel through the southern U.S. land border region and other Latino binational populations in the United States, including Spanish speaking migrants and farmworkers, through targeted education, linguistically appropriate health communications, outreach activities, and partnerships; (5) supports transnational continuity of care and travel restriction decisions for persons with active tuberculosis moving in or out of the United States; (6) helps facilitate CDC projects with Mexico (Mexico Country Office) and the Central American Region (Panama Office) to address priority health issues of mutual interest that will advance scientific knowledge, protect binational, regional and migratory populations, and facilitate coordinated disease response and health security between the public health officials in the United States, Mexico, and Central America; and (7) supports binational working groups, collaborations, and data systems that support surveillance, information sharing, expand evidence base on health disparities and control of binational/border communicable diseases of importance, and support partnerships with key organizations and governmental agencies to enhance service provision to mobile border/binational populations.

Healthcare Systems Strengthening, Resilience, and Training Branch (CRDH). (1) leads, in collaboration with the other appropriate division components, development and delivery of training related to the prevention of HAIs, antimicrobial resistance, adverse events, and medical errors, and improving environmental hygiene, use of personal protective equipment, disinfection, sterilization, and other related topics with a focus on remote, rural, and underserved areas; (2) builds and supports partnerships with organizations that increase reach and impact for DHQP training content; (3) identifies and addresses gaps in information needed to successfully implement and optimize training and IPC in healthcare settings; (4) supports state, local, and Federal efforts to establish and improve infection prevention and control through training and implementation programs, and policies that support IPC resilience; (5) assists partners in improving infection prevention and control, HAI surveillance, and environmental hygiene capacities through tailored long-term consultative support; (6) provides technical assistance for development of organization-specific infection control policies and action plans to prevent HAIs and reduce antimicrobial resistance; (7) leads healthcare preparedness and resilience planning and implementation to enable healthcare facilities to respond to infectious disease threats at local, regional and national levels, including monitoring and reporting related to acute surges in staffing and resource needs, impacts on healthcare personnel, bed and equipment availability, and coordination within local jurisdictions; (8) coordinates DHQP activities and collaborates with other CIOs and Federal agencies to prepare healthcare to respond to emerging threats; (9) represents and coordinates DHQP activities for agency-wide responses and collaborates with CDC Emergency Operations Center for emergency response to emerging infections involving healthcare (e.g., Ebola); and (10) provides expert consultation, guidance, and technical support to and collaborates with other CDC CIOs, other HHS operating divisions.

International Infection Control Branch (CRDJ). (1) leads, in collaboration with the appropriate CDC CIO and other components, global health activities related to the prevention of HAIs, antimicrobial resistance, and related adverse events or medical errors; (2) coordinates international efforts to establish and improve infection prevention and control policies, programs, and collaborations; (3) assists countries to improve infection prevention and control capacity toward prevention and control of endemic and outbreak-related HAIs outbreaks; (4) produces tailored implementation and training content to support countries and international partners working to improve healthcare safety and quality; (5) in collaboration with ministries of health, CDC country offices, and implementing partners, develops country-specific national policies and action plans to improve healthcare safety and reduce the global burden of antimicrobial resistance associated with healthcare delivery; (6) provides technical assistance to international partners in building diagnostic laboratory capacities and surveillance systems; and (7) leads development of global networks to detect and contain infectious disease threats related to healthcare.

Medical Product Safety Branch (CRDK). (1) leads CDC's activities on blood, organ, and other tissue safety; (2) represents CDC on the Advisory Committee on Blood Safety and Availability and the Advisory Committee on Organ Transplantation; (3) works with other Federal agencies, state governments, and other public and private organizations to enhance blood, organ, and other tissue safety through coordination of investigation, prevention, response, surveillance, applied research, health communication, and public policy; (4) leads CDC's national adverse drug events surveillance activities and seeks to translate population-based ADE surveillance data into evidence-based policies and targeted, innovative and collaborative interventions; and (5) develops, promotes, and monitors implementation of and adherence to evidence-based practices, policies, strategies, and related educational materials to increase adherence to optimal antimicrobial use and stewardship across all healthcare settings.

Epidemiology Laboratory Capacity (ELC) and Informatics Branch (CRGC). (1) builds the capacity of state, local, and territorial public health agencies to prevent and respond to infectious diseases through the ELC cooperative agreement; (2) provides scientific and programmatic guidance, as well as management, administrative, and technical support for broad infectious disease cooperative agreements such as the ELC program; (3) serves as a liaison/point of contact to assist recipients in identifying appropriate technical assistance; (4) provides program expertise, innovation, and linkages for infectious disease and health informatics; (5) increases adoption of electronic exchange of public health data between CDC and frontline public health agencies; and (6) analyzes the effectiveness and impact of infectious disease activities in collaboration with other CDC programs with various analytic techniques.

Rapid Response Research and Surveillance Branch (CRGD). (1) responds to emerging infectious disease outbreaks and emergencies through innovation and by collaborating and partnering with STLT public health agencies and providing scientific technical assistance; (2) implements wastewater surveillance to provide an early warning for emerging infections or public health concerns by coordinating and building wastewater surveillance capacity, and providing real-time, community-level data to clinicians, decision-makers, key partners, and the public; (3) leads and supports infectious disease fellowship and training programs; (4) supports health departments and other clinical and public health partners on issues related to improving health equity and infectious disease rapid response activities and resources; (5) conducts surveillance and other novel and innovative public health practice activities to detect, control, and prevent emerging infectious diseases; and (6) creates study activities and related publications that support public health science and response activities and interventions.

Office of Advanced Molecular Detection (CRGE). (1) integrates advanced molecular technologies into the public health system, both domestically and globally, to enhance the prevention and response to significant public health threats and improve the identification and characterization of various pathogens; (2) develops innovative tools for the detection, characterization, prediction, modeling, and early recognition of emerging infectious diseases; (3) establishes enhanced, sustainable, and integrated laboratory data and systems that are accessible for all public health organizations; (4) builds workforce capacity in genomic sequencing, bioinformatics, and molecular epidemiology within public health organizations and in partnership with the private sector and academia, both domestically and globally; and (5) leads ongoing quality initiatives for genomic surveillance throughout CDC, including the infectious disease review board and quality validation framework.

Advanced Diagnostics and Biotechnologies Branch (CRHB). (1) provides state-of-the-art next-generation genomic sequencing and metagenomics analysis of infectious and biothreat agents; (2) provides optical mapping to produce high resolution whole- genome maps for strain typing, molecular epidemiology, comparative genomics, and quality control for whole genome sequence assembly; (3) provides computational analysis of genomics sequencing data, bioinformatics, and biological computing; (4) provides qualitative and quantitative proteomic analyses (identification of expressed proteins by mass spectrometry); analysis of functionally-relevant post-translational modifications of proteins; (5) provides mass spectrometry-based positive identification of bacteria and fungi; (6) provides synthetic oligonucleotide chemistry in support of development of rapid diagnostic tests and characterization of pathogens and their hosts; (7) provides synthetic peptide chemistry in support of studies of immune response and antigen-antibody interactions; (8) provides biotechnology seminars and methods evaluation; (9) works with CDC pathogen-specific programs in the evaluation of new instrument platforms and technologies to detect emerging and known pathogens and in the evaluation of existing and in the design of innovative and novel diagnostic tests and assays (sequence based); (10) provides laboratory equipment design and repair services to all CDC; and (11) assesses and supports advanced analytical methodologies for the CDC scientific community.

Preparedness, Response, and Outbreak Services Branch (CRHD). (1) provides centralized specimen management services for diagnostic, reference, and outbreak investigations; maintains a bank of biological specimens of epidemiological significance to CDC's research and diagnostic activities; manages and tracks systems of specimen collections; (2) receives, triages, processes, stores, and distributes specimens to CDC laboratories for reference diagnostic testing, research studies, and reports diagnostic and surveillance test results to submitting organizations; (3) provides extracted nucleic acids under a Clinical Laboratory Improvement Amendments approved workflow that can be used for sequencing and molecular diagnostics; (4) maintains and manages the biological laboratory component of the Laboratory Response Network (LRN); (5) provides LRN strategic guidance, leadership, and operations support; (6) provides technical input for assay development for federally managed environmental monitoring systems and guidelines developed through U.S. government collaborations for the validation and use of environmental detection devices; (7) develops LRN protocols for specimen handling and testing for bioterrorism agents; (8) produces and manages inventory of high-quality reagents available to LRN laboratories and expedites shipping of products to support emergency response needs; (9) collaborates with CDC and external partners to assist in administering proficiency testing programs for critical agents for LRN member laboratories; (10) evaluates and validates advanced technology for the identification and characterization of agents of bioterrorism and other emerging infectious diseases; (11) works with CDC pathogen-specific programs in the evaluation of existing and in the design of innovative and novel diagnostic tests and assays (molecular and immunological); (12) provides laboratory triage capability at CDC for unknown biological and chemical agents; (13) produces hybridomas, monoclonal and polycolonal antibodies, and in vitro diagnostic products for diagnostic research purposes, proficiency testing, pandemic preparedness, outbreak response and surveillance activities; (14) collaborates with subject matter experts in regulatory compliant development, production, packaging, storing and distribution of Biosafety Level 2 (BSL2)/Biosafety Level 3 (BSL3) reagents, select agents, novel immuno-chemical reagents and reference diagnostic reagents; (15) provides dispensing, lyophilizing, label production, and device assembly services; (16) improves the process of bench-top development and in-house pilot scale production providing immediate availability for distribution, preventing backorders and streamlining commercialization; (17) packages and ships infectious substances and other materials, ensuring compliance with regulations for shipping clinical specimens, infectious substances, and other materials; (18) operates the CDC Biorepository as a centralized resource to preserve CDC's valuable samples and provide ongoing support to CDC programs; (19) manages sample collections, along with associated information and data obtained from CDC's public health surveillance, research, and outbreak responses; (20) serves as the administrator issuing CDC's required standardized identifiers: the CDC Sample Identifier and CDC Unique Identified; and (21) provides consultation in all of the above technical services.

Laboratory Products and Services Branch (CRHE). (1) maintains laboratory water treatment systems to ensure quality of CDC reagent grade laboratory water; (2) produces, develops, evaluates, and distributes custom microbiological and cell culture media, buffers, and chemical reagent, mammalian, and insect cell cultures; (3) maintains CDC's Biological Reference Reagent Inventory, mammalian cell line repository and a serviceable inventory at the DCLSR Continuity of Operations storage facility; (4) packages and ships infectious substances and other materials, ensuring compliance with regulations for shipping clinical specimens, infectious substances, and other materials; (5) manages all CDC exports and ensures compliance with regulations and serves as CDC liaison with Department of Commerce for export-related issues; (6) oversees laboratory waste management; (7) coordinates laboratory glassware and stockroom operations, consumables; and (8) provides consultation in all of the above technical services.

Division of Parasitic Diseases and Malaria (CRK). The Division of Parasitic Diseases and Malaria (DPDM) prevents and controls parasitic diseases in the United States and throughout the world by providing diagnostic, consultative, epidemiologic services, and training. In carrying out its mission, DPDM: (1) conducts surveillance, investigations, and studies of parasitic diseases to define disease etiology, mode of transmission, and populations at risk, and to develop effective methods for diagnosis, prevention, control, and elimination; (2) conducts or participates in clinical, field, and laboratory research to develop, evaluate, and improve laboratory methodologies, materials and therapeutic practices used for rapid and accurate diagnosis and treatment of parasitic diseases; (3) provides epidemic aid, epidemiologic consultation, and reference diagnostic services to state and local health departments, other Federal agencies, and national and international health organizations; (4) conducts a program of laboratory and field research in the biology, ecology, and host-parasitic relationships to develop better methods for diagnosis, prevention, and control of parasitic diseases; (5) coordinates with the U.S. Agency for International Development to address neglected tropical diseases and to achieve the goals of the President's Malaria Initiative; (6) provides scientific and technical assistance to other components within CDC when the work requires unique expertise or specialized equipment not available in other CDC components; (7) serves as WHO Collaborating Centers for Cysticercosis, Research Training and Eradication of Dracunculiasis, Control and Elimination of Lymphatic Filariasis, Evaluating and Testing New Insecticides, Insecticide Resistance, Insect Vectors; Malaria Control in Africa, Human African Trypanosomiasis, Production and Distribution of Malaria Sporozoite enzyme-linked immunosorbent assay; (8) maintains field-based research and program activities in numerous developing countries; (9) provides communications support for responsive, evidence-based information targeted to the public, local and state health officials, international partners, and private organizations to inform health decisions, to prevent, and control parasitic diseases in the United States and abroad; and (10) provides staffing and support for emergency responses at program, division, Center, and agency levels.

Office of the Director (CRK1). (1) works with NCEZID Office of the Director to ensure spending plans and budget are in line with the overall infectious disease strategies and priorities; (2) ensures that the NCEZID strategy is executed by the division and aligned with overall CDC goals; (3) co-develops execution strategies for the division with the branch chiefs; (4) provides program and science quality oversight; (5) builds leadership at the division and branch levels; (6) evaluates the strategies, focus, and prioritization of the division research, program, and budget activities; (7) identifies and coordinates synergies between the division and relevant partners; (8) ensures that policy development is consistent and appropriate; (9) facilitates research and program activities by providing leadership support; (10) proposes resource priorities throughout the budget cycle; (11) ensures scientific quality, ethics, and regulatory compliance; (12) fosters an integrated approach to research, program, and policy activities; and (13) liaises with HHS and partners.

Malaria Branch (CRKB). (1) conducts malaria surveillance, prevention, and control in U.S. residents and visitors by monitoring the frequency and distribution of malaria cases that occur in U.S. residents and visitors and the efficacy and safety of antimalarial drugs for chemoprophylaxis and chemotherapy; (2) provides clinical advice and epidemiologic assistance on the treatment, control, and prevention of malaria in the United States and in malaria-endemic countries; (3) provides information to the U.S. public and to appropriate agencies and groups on appropriate measures to prevent and control malaria; (4) provides consultation, technical assistance, and training to malaria-endemic countries and to international and U.S. agencies and organizations on issues of malaria prevention and control; (5) conducts epidemiologic, and field-based research projects, including laboratory and field studies on parasitic diseases to define, transmission dynamics, populations at risk, and determinants of morbidity and mortality; (6) conducts field studies of malaria prevention and control tools and strategies; and (7) conducts assessments of malaria monitoring and evaluation methods and program use of these methods.

Parasitic Diseases Branch (CRKC). (1) investigates outbreaks and unusual occurrences of parasitic diseases in concert with states, ministries of health, WHO, and other agencies and organizations; (2) conducts surveillance of parasitic diseases in the United States, including foodborne parasitic disease outbreaks; (3) provides consultation on the prevention, treatment, and management of parasitic diseases to clinicians, laboratorians, departments of health, and other agencies; and provides otherwise unavailable anti-parasitic drugs to healthcare providers and ensures compliance with FDA's regulations; (4) supports the agency's overall emergency response mandate; (5) conducts field and laboratory investigations and research on the etiology, epidemiology, chemotherapy and other aspects of parasitic diseases to develop new tools for identifying and controlling parasitic diseases; (6) carries out and evaluates operational research to evaluate current strategies and develops new strategies to support programmatic activities for the control and elimination of parasitic diseases, and provides technical assistance to ministries of health, WHO, and other agencies and organizations for these programs; (7) provides training to EIS officers, Preventive Medicine Residents, public health prevention specialists, and other fellows and students; and (8) prepares and disseminates health communication materials on the prevention and treatment of parasitic diseases.

Entomology Branch (CRKD). (1) conducts global surveillance, field investigations, and laboratory studies on the vectors of parasitic diseases of humans, with a focus on malaria, Chagas' disease, lymphatic filariasis, onchocerciasis, and leishmaniasis, with a particular emphasis on the anopheline vectors of malaria; (2) serves as WHO Collaborating Centers for pesticides resistance, anopheline vector identification, antimalarial drug evaluation, and vector control; (3) develops methods supporting the global use of pesticides for control of vector-borne diseases, the management of insecticide resistance, and the monitoring of anti-parasitic drugs; (4) serves as an international reference reagent and anopheline vector repository, providing materials, training, and information related to malaria vectors; and (5) provides entomological consultation, epidemic aid, and training to local, state, Federal and foreign agencies and international health organizations on surveillance and control of malaria and parasitic vector-borne diseases.

Laboratory Science and Diagnostics Branch (CRKE). (1) provides reference and laboratory diagnostic services to physicians and laboratories; (2) transfers technologies and expertise in laboratory diagnosis of parasitic infections to public health laboratories; (3) supports the agency's overall emergency response mandate; (4) conducts field and laboratory investigations and research on the biology, ecology, pathogenesis, immunology, genetics, host-parasite relationships, and other aspects of parasitic diseases to develop new tools for identifying and controlling parasitic diseases; (5) develops and tests new laboratory methods and tools for improved diagnosis, control, and prevention of parasitic diseases, and conducts laboratory training courses for public health laboratories; (6) conducts laboratory, and field-based research projects, including laboratory and field studies on parasitic diseases to define biology, ecology, parasite species differences, host-parasite relationships, diagnostics, host immune responses; (7) conducts laboratory studies of malaria parasites utilizing animal models and in vitro systems for parasitic relationships, chemotherapy, and vaccine evaluation studies; efficacy and safety of antimalarial drugs for chemoprophylaxis and chemotherapy; and training to malaria-endemic countries; conducts assessments of malaria monitoring and evaluation methods; and (8) provides training to Emerging Infectious Disease fellows, American Society of Microbiology/Postdoctoral Fellows, and other fellows and students.

V. Under Part C, Section C-B, Organization and Functions, the following organizational unit is deleted in its entirety:

• Food Safety Office (CVLB13)

• Quarantine and Border Health Services Branch (CVLCB)

• Immigrant, Refugee, and Migrant Health Branch (CVLCC)

• Geographic Medicine and Health Promotion Branch (CVLCD)

• International Infection Control Activity (CVLD14)

• One Health Office (CVLE13)

• Scientific Programs and Development Branch (CVLGC)

• Emergency Preparedness and Response Branch (CVLGD)

• Laboratory Preparedness and Response Branch (CVLGG)

• Biotechnology Core Facility Branch (CVLHD)

• Reagent and Diagnostic Services Branch (CVLHG)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14704 Filed 7-11-23; 8:45 am]

BILLING CODE 4163-18-P